DEPARTMENT OF TRANSPORTATION

Surface Transportation Board

[Docket No. FD 27590 (Sub-No. 3)]

TTX Company—Application for Approval of Pooling of Car Service With Respect to Flatcars

AGENCY: Surface Transportation Board.

ACTION: Notice of final decision.

SUMMARY: In 2004, the Surface Transportation Board (Board) granted TTX Company (TTX) a 10-year extension of its authority to pool certain rail cars, subject to monitoring by the Board during the term of TTX's extension. Pursuant to this monitoring commitment, the Board, in September 2009, invited comments from interested parties on whether any of TTX's activities require oversight action by the Board. After reviewing the comments, the Board is issuing a final decision concluding that no modification to its approval of the activities of TTX pursuant to TTX's pooling agreement is required.

DATES: Effective Date: The decision will be effective on August 17, 2010.

FOR FURTHER INFORMATION CONTACT: Larry C. Herzig, (202) 245-0282. Assistance for the hearing impaired is available through the Federal Information Relay Service (FIRS) at 1-800-877-8339.

SUPPLEMENTARY INFORMATION: Additional information is contained in the Board's decision. Board decisions and notices are available on our Web site at www.stb.dot.gov.

Decided: August 10, 2010.
By the Board, Chairman Elliott, Vice Chairman Mulvey, and Commissioner Nottingham.
Kulunie L. Cannon,
Clearance Clerk.

[FR Doc. 2010-20230 Filed 8-16-10; 8:45 am]

BILLING CODE 4915-01-P